DEPARTMENT OF ENERGY

Federal Energy Regulatory Commission

Combined Notice of Filings #1

Take notice that the Commission received the following electric rate filings:

Docket Numbers: ER19-2387-001.

Applicants: New England Power Pool Participants Committee.

Description: Tariff Amendment: Viridity Energy Termination Correction to be effective 9/10/2019.

Filed Date: 7/12/19.

Accession Number: 20190712-5148.

Comments Due: 5 p.m. ET 8/29/19.

Docket Numbers: ER19-2671-000.

Applicants: SR Arlington II, LLC.

Description: Baseline eTariff Filing: MBR Application to be effective 10/21/2019.

Filed Date: 8/21/19.

Accession Number: 20190821-5116.

Comments Due: 5 p.m. ET 9/11/19.

Docket Numbers: ER19-2672-000.

Applicants: SR Arlington II MT, LLC.

Description: Baseline eTariff Filing: MBR Application to be effective 10/21/2019.

Filed Date: 8/21/19.

Accession Number: 20190821-5127.

Comments Due: 5 p.m. ET 9/11/19.

Docket Numbers: ER19-2673-000.

Applicants: NorthWestern Corporation.

Description: Tariff Cancellation: Notice of Cancellation; SA 811, Fast Process Agreement with MDT (Russell St.) to be effective 8/22/2019.

Filed Date: 8/21/19.

Accession Number: 20190821-5130.

Comments Due: 5 p.m. ET 9/11/19.

Docket Numbers: ER19-2674-000.

Applicants: New Mexico PPA Corporation.

Description: Baseline eTariff Filing: Application for Market-Based Rate Sales to be effective 10/22/2019.

Filed Date: 8/22/19.

Accession Number: 20190822-5078.

Comments Due: 5 p.m. ET 9/12/19.

Docket Numbers: ER19-2675-000.

Applicants: Southwest Power Pool, Inc.

Description: § 205(d) Rate Filing: 3517R1 Plum Creek Wind, LLC GIA to be effective 7/25/2019.

Filed Date: 8/22/19.

Accession Number: 20190822-5086.

Comments Due: 5 p.m. ET 9/12/19.

Docket Numbers: ER19-2676-000.

Applicants: Southern California Edison Company.

Description: § 205(d) Rate Filing: Correction to Appendix 2 Under WDAT Recollation Filing 1 to be effective 5/1/2019.

Filed Date: 8/22/19.

Accession Number: 20190822-5094.

Comments Due: 5 p.m. ET 9/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 22, 2019.
Nathaniel J. Davis, Sr.,
Deputy Secretary.

[FR Doc. 2019-18510 Filed 8-27-19; 8:45 am]

BILLING CODE 6717-01-P